DEPARTMENT OF THE INTERIOR

Fish and Wildlife Service

[FWS-R2-R-2008-N0149; 20131-1265-2LPP]

Texas Chenier Plain National Wildlife Refuge Complex, Chambers, Jefferson, and Galveston Counties, TX

AGENCY: Fish and Wildlife Service, Interior.

ACTION: Notice of availability: Record of decision.

SUMMARY: We, the U.S. Fish and Wildlife Service (Service), announce the decision and availability of the record of decision (ROD) for the final environmental impact statement (EIS), comprehensive conservation plan (CCP), and land protection plan (LPP) for the Texas Chenier Plain National Wildlife Refuge Complex (Refuge Complex). We completed a thorough analysis of the environmental, social, and economic considerations and presented it in our final EIS, which we released to the public through a Federal Register notice on June 30, 2008. The ROD documents our decision to adopt and implement Refuge Management Alternative D and Refuge Boundary Expansion Alternative C. Refuge Management Alternative D is adopted as the CCP for the Refuge Complex and will direct the management activities on the Refuge Complex for the next 15 years. Refuge Boundary Expansion Alternative C is adopted as the LPP for the Refuge Complex and authorizes land acquisition from willing sellers within a designated 64,260-acre expansion area.

DATES: The Acting Regional Director, Region 2, U.S. Fish and Wildlife Service, signed the ROD on September 16, 2008.

ADDRESSES: You may view or obtain copies of the ROD by any of the following methods:

Agency Web Site: Download a copy of the document at http://www.fws.gov/southwest/refuges/Plan/docs/LINKS.pdf.

E-mail: doug_stpierre@fws.gov. Include “TX Chenier Plain NWR Complex ROD” in the subject line of the message.

Mail: Doug St. Pierre, Division of Planning, P.O. Box 1306, Albuquerque, NM 87103.

In-Person Viewing or Pickup: Call 409-267-3337 to make an appointment during regular business hours at Texas Chenier Plain NWR Complex Headquarters, 509 Washington Street, Anahuac, TX.

FOR FURTHER INFORMATION CONTACT: Doug St. Pierre, 505-248-6636.

SUPPLEMENTARY INFORMATION:

Introduction

With this notice, we finalize the CCP and LPP process for Moody, Anahuac, McFaddin, and Texas Point National Wildlife Refuges. We started this process in a Federal Register notice (64 FR 56800, October 21, 1999). We released the draft EIS/CCP/LPP to the public, announcing and requesting comments in a notice of availability in the Federal Register (71 FR 61063; October 17, 2006). We announced the availability of the final EIS/CCP/LPP in the Federal Register (73 FR 36890) on June 30, 2008.

The Refuge Complex is located along the upper Texas Gulf Coast between Houston, Texas, and the Louisiana border. This coastal ecosystem includes important freshwater, estuarine marshes, tallgrass prairie with small depressional wetlands, and coastal woodlots. These habitats are an important part of the primary wintering area for Central Flyway ducks and geese, and, additionally, are critical staging areas for neotropical landbirds migrating to and from Central and South America.

In accordance with National Environmental Policy Act (NEPA) (40 CFR 1506.6(b)) requirements, this notice announces our decision and the availability of the ROD for the final EIS/CCP/LPP for the Refuge Complex. We completed a thorough analysis of the environmental, social, and economic considerations, which we included in the final EIS/CCP/LPP. The ROD documents our selection of Refuge Management Alternative D, the Preferred Alternative, for the CCP; and, our selection of Refuge Boundary Alternative C, the Preferred Alternative, for the LPP.

The CCP will guide us in managing and administering Moody, Anahuac, McFaddin, and Texas Point National Wildlife Refuges for the next 15 years. Refuge Management Alternative D, as we described in the final EIS/CCP/LPP, is the foundation for the CCP. The LPP authorizes acquisition of land or interests in land from willing sellers within the expanded boundaries of Moody, Anahuac, McFaddin, and Texas Point National Wildlife Refuges. Refuge Boundary Expansion Alternative C, as we described in the final EIS/CCP/LPP, is the foundation for the LPP, which outlines the expanded boundaries and lists the tracts/ownerships within these boundaries.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

CCP/LPP Alternatives and the Two Selected Alternatives

Our draft EIS/CCP/LPP (71 FR 200) addressed several issues. To address these, we developed and evaluated the two following sets of alternatives:

Refuge Management Alternatives

Alternative A: (NEPA no action alternative) Continuation of current management.

Alternative B: Emphasis on intensifying management of wetland habitats for waterfowl, shorebirds, wading birds, and other wetland-dependent migratory birds.

Alternative C: Emphasis on native habitat restoration and addressing major threats to the ecosystem.

Alternative D: Emphasis on an integrated management approach combining (1) Expanded habitat management and restoration programs, (2) new research and wildlife population monitoring, and (3) increased efforts to address major threats to the ecosystem.

Alternative E: Emphasis on a passive management approach.

Refuge Boundary Expansion Alternatives

Alternative A: (NEPA no action alternative) No expansion, current status.

Alternative B: Total 33,590-acre expansion.

Alternative C: Total 64,260-acre expansion.

Alternative D: Total 104,120-acre expansion.

After considering the comments we received, we have selected Refuge Management Alternative D for the CCP. It documents our decision, based on the information contained in the final EIS and the entire administrative record. The Service believes that Refuge Management Alternative D (Preferred Alternative) represents the most desirable approach to meet the establishment purposes of the refuges in the Refuge Complex, the mission of the National Wildlife Refuge System, and the conservation of Trust fish and wildlife species including migratory birds and Threatened and Endangered species, while recognizing the need to address emerging threats to biological integrity, biological diversity, and ecosystem health. This alternative focuses on protecting and enhancing existing wetland and upland habitats on the Refuge Complex through active management, continues and expands efforts to enhance and restore native tallgrass coastal prairie and woodland habitat on suitable sites, continues and expands efforts to address major ecosystem threats, uses additional scientific monitoring and studies to guide an adaptive management approach with increased emphasis on declining or sensitive species, and expands wildlife-dependent recreational uses with an emphasis on enhancing the quality of the refuge visitor experience.

Also, after considering the comments we received, we have selected Refuge Boundary Expansion Alternative C for the LPP. It documents our decision, based on the information contained in the final EIS and the entire administrative record. In selecting its Refuge Boundary Expansion Alternative, the Service considered ecological values, benefits to management of existing refuges, levels of threat, and feasibility as affected by land ownership patterns and projected availability of funding. The newly approved refuge boundaries would contain the largest remaining tracts of native coastal prairie on the upper Texas coast, in addition to important areas of coastal marsh adjacent to existing refuges.

Public Availability of Documents

In addition to the methods in ADDRESSES, you can view or obtain documents at the following location:

• Our Web site: http://www.fws.gov/southwest/refuges/Plan/docs/LINKS.pdf.

Dated: October 20, 2008.
Brian Millsap,
Acting Regional Director, U.S. Fish and Wildlife Service, Albuquerque, New Mexico.

[FR Doc. E8-25496 Filed 10-24-08; 8:45 am]

BILLING CODE 4310-55-P